DEPARTMENT OF DEFENSE

Federal Advisory Committee; Military Leadership Diversity Commission (MLDC); Meeting Cancellation

AGENCY: Office of the Under Secretary of Defense for Personnel and Readiness, DoD.

ACTION: Meeting notice; cancellation.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) meeting that was scheduled for February 10-12, 2010, in Hampton, VA, has been canceled due to major snow storms affecting the eastern coast of the United States. The meeting was announced in the Federal Register on January 14, 2010 (75 FR 2114).

FOR FURTHER INFORMATION CONTACT: Master Chief Steven A. Hady, Designated Federal Officer, MLDC, at (703) 602-0838, 1851 South Bell Street, Suite 532, Arlington, VA, E-mail Steven.Hady@wso.whs.mil.

Dated: February 16, 2010.
Mitchell S. Bryman,
Alternate OSD Federal Register Liaison Officer, Department of Defense.

[FR Doc. 2010-3379 Filed 2-19-10; 8:45 am]

BILLING CODE 5001-06-P